DEPARTMENT OF ENERGY

Energy Information Administration

Agency Information Collection Extension With Changes

AGENCY: U.S. Energy Information Administration (EIA), U.S. Department of Energy.

ACTION: Notice and request for OMB review and comment.

SUMMARY: EIA, pursuant to the Paperwork Reduction Act of 1995 and with the approval of the Office of Management and Budget, intends to extend for 3 years, with changes, the following forms:

• Form EIA-63B, “Annual Photovoltaic Cell/Module Shipments Report,”

• Form EIA-411, “Coordinated Bulk Power Supply Program Report,”

• Form EIA-826, “Monthly Electric Utility Sales and Revenue Report with State Distributions,”

• Form EIA-860, “Annual Electric Generator Report,”

• Form EIA-860M, “Monthly Update to the Annual Electric Generator Report,”

• Form EIA-861, “Annual Electric Power Industry Report,”

• Form EIA-861S, “Annual Electric Power Industry Report (Short Form),” and

• Form EIA-923, “Power Plant Operations Report.”

In addition, EIA proposes to create the following new form:

• Form EIA-930, “Balancing Authority Operations Report.”

Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before May 6, 2013. If you anticipate difficulty in submitting comments within that period, contact the person listed in ADDRESSES as soon as possible.

ADDRESSES: Send comments to Rebecca Peterson. To ensure receipt of the comments by the due date, email is recommended (ERS2014@eia.gov). The postal mailing address is U.S. Department of Energy, U. S. Energy Information Administration, Mail Stop EI-23, Forrestal Building, 1000 Independence Avenue SW., Washington, DC 20585.

FOR FURTHER INFORMATION CONTACT: Requests for additional information should be directed to Ms. Peterson at the email address listed above. Alternatively, Ms. Peterson may be contacted on (202)-586-4509. The proposed forms and instructions, along with related information on this clearance package, can be viewed at http://www.eia.gov/survey/changes/electricity/.

SUPPLEMENTARY INFORMATION: This information collection request contains the following:

(1) OMB No. 1905-0129 ¹

¹ This form has been under OMB No. 1905-0196. Due to a reorganization of EIA offices, the renewables data collection program is now housed with the electricity data collection program. Therefore, EIA proposes to change the OMB number to 1905-0129.

For the Forms EIA-411, 826, 860, 860M, 861, 861S, 923, and 930, EIA proposes to protect all contact information associated with the “Survey Contact” and the “Supervisor of Contact Person for Survey” on Schedule 1, including name, email address, telephone, and Fax number to the extent that it satisfies the criteria for exemption under the Freedom of Information Act (FOIA), 5 U.S.C. 552, the Department of Energy (DOE) regulations; 10 CFR 1004.11, implementing the FOIA, and the Trade Secrets Act, 18 U.S.C. 1905. The name and business address of the survey respondents shown in Schedule 1 will continue to be released as public information.

For the Forms EIA-63B, 411, 826, 860 and 923, EIA proposes to discontinue applying disclosure limitation rules that test aggregate statistics for the risk of disclosing identifiable information. EIA intends to add the following paragraph to the section on data confidentiality: “Disclosure limitation procedures are not applied to the statistical data published from the survey information reported on this form. There may be some statistics that are based on data from fewer than three respondents, or that are dominated by data from one or two large respondents. In these cases, it may be possible for a knowledgeable person to closely estimate the information reported by a specific respondent.”

(2) Information Collection Request Title: Form EIA-63B, “Annual Photovoltaic Cell/Module Shipments Report”

(3) Type of Request: Extension, with changes, of a currently approved collection.

(4) Purpose: The Form EIA-63B tracks photovoltaic cell/module manufacturing, shipments, technology types, revenue and related information. The data collected on this form appear in various EIA publications. The data are used by the U.S. Department of Energy, the Congress, other government and non-government entities, and the public to monitor the current status and trends of the photovoltaic industry and to evaluate the future of the industry.

(5) Estimated Number of Survey Respondents: Currently there are about 168 respondents.

(6) Annual Estimated Number of Total Responses: The annual estimated number of total responses is about 168.

(7) Annual Estimated Number of Burden Hours: The annual estimated burden is 840 hours.

(8) Annual Estimated Reporting and Recordkeeping Cost Burden: Additional costs to respondents are not anticipated beyond costs associated with response burden hours.

(1) OMB No.: 1905-0129

(2) Information Collection Request Title: Form EIA-411, “Coordinated Bulk Power Supply Program Report”

(3) Type of Request: Extension, with changes, of a currently approved collection

(4) Purpose: The Form EIA-411 collects information relating to the reliability of the electric power system in the lower 48 states, including regional electricity supply and demand projections for a 10-year advance period, the characteristics and frequency of outages occurring on the Bulk Electric System, and other information on the transmission system and supporting facilities. The data are collected from the regional reliability entities by the North American Electric Reliability Corp. (NERC), ² which then organizes and edits the information and submits the data to EIA. The proposed changes include:

² NERC is the official national Electric Reliability Organization as designated by FERC pursuant to the Energy Policy Act of 2005. EIA has had a long-standing relationship with NERC and its predecessor for the collection of the EIA-411 data.

• Schedule 6, Part B, Characteristics of Projected Transmission Lines: EIA proposes to remove several questions on conductor size and material, bundling arrangements, and type of pole or tower. This information has been determined to have limited value that is outweighed by respondent burden.

• Schedule 7, Part A, Annual Data on Transmission Line Outages for AC Lines: The transmission line sustained outage section of the form will have a new voltage category: below 199kV. This change will make the form consistent with the expansion of the Bulk Electric System definition requested by the Federal Energy Regulatory Commission (FERC) and specific recommendations from NERC. In this section, there are other minor refinements to the outage data collected, such as disaggregating outages into the three principal classifications.

• New Schedule 8, Annual Data on Generating Unit Outages, Deratings and Performance Indexes: This new Schedule will present information on generating unit reliability, supplementing the reliability information on the transmission grid and the power supply/demand balance historically collected by this survey. The information will be extracted by NERC directly from its existing Generating Availability Data System (GADS). The additional burden on respondents is therefore 0.

• New Schedule 9, Smart Grid Transmission System Devices and Applications, will collect information on smart grid technologies now being deployed to improve the reliability of the transmission system. This includes phasor measurement units, which are used for real-time monitoring of the condition of the grid and for forensic review of grid performance and events. Information will also be collected on dynamic capability rating systems on transmission circuits. These systems provide operators with information on the true operational limits of transmission lines.

(5) Estimated Number of Survey Respondents: Nine respondents (the eight NERC regional entities and NERC Headquarters).

(6) Annual Estimated Number of Total Responses: The annual estimated number of total responses is 9.

(7) Annual Estimated Number of Burden Hours: The annual estimated burden is 1,098 hours.

(8) Annual Estimated Reporting and Recordkeeping Cost Burden: Additional costs to respondents are not anticipated beyond costs associated with response burden hours.

(1) OMB No.: 1905-0129

(2) Information Collection Request Title: Form EIA-826, “Monthly Electric Sales and Revenue with State Distributions Report”

(3) Type of Request: Extension, with changes, of a currently approved collection.

(4) Purpose: Form EIA-826 collects monthly information from a sample of electric utilities, energy service providers, and distribution companies that sell or deliver electric power to end users. Data collected on this form includes sales and revenue for all end-use sectors (residential, commercial, industrial, and transportation). This survey is the monthly complement to the annual data collection from the universe of respondents made by the short and long form versions of the Form EIA-861 survey (see below). EIA proposes to make the following changes to the form:

• Schedule 3, Part A, Green Pricing: Remove the green pricing schedule. EIA's understanding is that green pricing programs currently have a minimal presence in the retail power market and that this situation is not expected to change. The value of the data collection is therefore outweighed by the burden on respondents. EIA plans to continue to monitor this market and if necessary will propose reintroduction of this data collection in the future.

• Schedule 3, Part C, Advanced Metering: Separate Advanced Metering Infrastructure (AMI) into two subgroups—AMI operated solely as Automated Meter Reading (AMR) equipment, and AMI operated as AMI.

(5) Estimated Number of Survey Respondents: There are approximately 526 respondents.

(6) Annual Estimated Number of Total Responses: The annual estimated number of total responses is 6,312.

(7) Annual Estimated Number of Burden Hours: The annual estimated burden is 8,647.

(8) Annual Estimated Reporting and Recordkeeping Cost Burden: Additional costs to respondents are not anticipated beyond costs associated with response burden hours.

(1) OMB No.: 1905-0129

(2) Information Collection Request Title: Form EIA-860, “Annual Electric Generator Report”

(3) Type of Request: Extension, with changes, of a currently approved collection.

(4) Purpose: Form EIA-860 collects data on existing and planned electric generation plants and associated equipment including generators, boilers, cooling systems, and environmental control systems. Data are collected from all existing units and from planned units scheduled for initial commercial operation within 10 years of the specified reporting period (depending on the type of plant). EIA proposes the following changes:

• Schedule 1, Identification: collect the ownership type of the reporting entity (e.g., investor owned utility, electric power cooperative, etc.). This information is frequently requested within DOE and by outside analysts.

• Schedule 2, Power Plant Data, and Schedule 3, Part C, Generator Information—Proposed Generators: These schedules currently collect data from plants and generators expected to begin commercial operation within 10 years of the survey year. EIA proposes to reduce this time horizon to 5 years for all types of plants other than coal, nuclear, and conventional and pumped-storage hydroelectric power plants. This change reflects the relatively short planning and construction horizon for the predominant types of power plants now being proposed in the United States, such as combined cycle, wind, and solar generators. Coal, nuclear, and hydroelectric plants, in contrast, have long planning and construction periods.

• Schedule 2, Power Plant Data:

i. Collect the name of each plant's balancing authority instead of its regional transmission organization (RTO) or independent system operator (ISO). This change reflects an effort by EIA to align its data collections with the actual operation of the electric power system, which is based on approximately 100 “balancing authorities” that manage the grid. No information will be lost because EIA can use balancing authority designations to assign plants to RTOs and ISOs.

ii. Collect information on ash impoundments. The condition of ash impoundments has been an area of increasing environmental concern at the federal and state levels. The data to be collected include whether any impoundments exist at a plant, the impoundments' statuses, and whether they are lined.

iii. Put space on the schedule to collect up to three grid voltages at the power plant's point of interconnection with the grid. In the current form plants with multiple interconnection voltages must enter information into the comments section of the form, a cumbersome procedure. The revised question will simply provide space on the survey form to directly enter three voltages.

iv. Stop collection of the datum associated with a plant's geographic coordinates. EIA has found that many and probably most respondents are unable to provide a correct answer to this question.

v. Stop collection of plant geographic coordinates in minutes and seconds. The form will ask for coordinates only in modern digital format.

vi. Collect information on whether a plant that has a primary purpose other than electricity generation for sale is net metered. This information is needed to improve the accuracy with which EIA can determine small renewable capacity, particularly solar.

vii. Collect information on whether a plant or any of the individual generating units at the plant is a blackstart unit. For those units that are blackstart units, the survey will collect information on nameplate capacity and whether any of the units are identified as a “Blackstart Resource” in a Transmission Operator's System Restoration Plan (pursuant to NERC Reliability Standards EOP-005-1 and EOP-005-2). These new questions are intended to enhance the information on power system reliability made available by EIA to analysts and policy makers.

• Schedule 3, Part A, Generator Information—Generators:

i. Collect whether a combined-cycle unit can operate in simple-cycle mode by bypassing the heat recovery steam generator. These questions relate to the reliability and operational flexibility of combined cycle generators, which account for a growing share of generation capacity and actual generation. Operational flexibility is an issue of growing importance due to the introduction of variable renewable technology (solar and wind) and wider use of demand response programs. The combination of more renewable power and demand response puts a premium on the ability of generating units to rapidly start, stop, and change output to meet variations in load.

ii. Delete three questions on whether the generator is an electric utility, the date of a unit's sale, and whether the unit can deliver power to the transmission grid. EIA has determined that these questions are either duplicative or provide information of limited value.

• Schedule 3, Part B, Generator Information—Existing Generators:

i. Collect information on whether an uprate or derate was completed during the reporting period. This information is needed in particular to confirm when an uprate became operational at nuclear units, a subject of great interest to power market analysts and modelers.

ii. Collect data on nameplate power factor. This information, which is an indicator of the maximum potential output from a generator, will be used in verifying the reported nameplate and net capacity of the unit.

iii. Collect data on generator minimum load and minimum time required to reach full load from standby and shutdown. These questions address the operating flexibility of the power system, a topic of increased interest due to the introduction of renewable power with variable output and demand response programs. These questions are limited to units burning combustible fuels.

iv. Delete the questions relating to reactive power. EIA has been unable to collect consistent or clearly correct data on reactive power. NERC, which originally requested these data, has informed EIA that the need no longer exists.

v. Reduce the number of questions relating to fuel switching and multi-fuel operation from 13 questions to eight. The remaining questions relate to oil and gas units only. This change is made to reduce respondent burden by focusing on the fuel switching questions of greatest interest, which is essentially the issue of backup fuel for gas and oil fired units.

vi. Add new questions on the characteristics of wind turbines such as turbine manufacturer, designed average annual wind speed, wind quality class, and average hub height; and add new questions on the characteristics of solar energy systems such as identification of tracking, concentrating and collector technology, and photovoltaic panel material. These questions will provide important information on the renewable technologies which increasingly account for the additions to the nation's generating fleet.

• Schedule 3, Part C, Generator Information—Proposed Generators: Consistent with changes discussed above to Part B (existing generators), EIA proposes to delete questions relating to reactive power, fuel switching and multi-fuel operations at planned units.

• Schedule 5, Generator Cost Information:

i. Delete all questions relating to interconnection costs.

ii. Add new questions on generator construction and financing costs. There is no public source of information on the actual cost of building new power plants. Nonetheless, cost estimates are critical elements to projections of, for example, power industry capital requirements and forecasts of new builds. The proposed questions will collect construction and financing costs as of the time of completion for most generating units. Long-lead coal and nuclear units will be required to provide annual estimates of the total cost to completion. All of the data will be treated as sensitive and protected to the extent that it satisfies the criteria for exemption under the Freedom of Information Act.

• Schedule 6, Boiler Information:

i. Part A, Plant Configuration: Reorganize the manner in which data on environmental equipment are collected to reflect that fact that a single pollution control technology can reduce emissions of more than one pollutant.

ii. Part C, Boiler Information: Delete the question that collects boiler manufacturer. EIA cannot identify a need for this information.

iii. Part D, Nitrogen Oxide Emission Controls, and Part E, Mercury Emission Controls: Collect information on the operating status, and installed cost of nitrogen oxide and mercury control systems.

iv. Part F, Cooling System Information—Design Parameters: Add a new question that collects the name of the cooling water discharge body if it is different than the intake body. This information was requested as part of EIA's joint review with U.S. Geological Survey of data relating to the energy/water nexus (an initiative recommended by the Government Accountability Office).

v. Part H, Flue Gas Desulfurization Unit Information: Delete the question that collects the flue gas desulfurization unit manufacturer. This information had value in the past when scrubber technology was still in the developmental stage, which is no longer the case.

vi. Part I, Stack and Flue Information—Design Parameters: Delete the questions that collect the geographic coordinate datum of stacks. As noted above, EIA's experience is that many and probably most respondents cannot provide a correct answer to this question.

(5) Estimated Number of Survey Respondents: There are approximately 3,500 respondents.

(6) Annual Estimated Number of Total Responses: The annual estimated number of total responses is 3,500.

(7) Annual Estimated Number of Burden Hours: The annual estimated burden is 29,617 hours.

(8) Annual Estimated Reporting and Recordkeeping Cost Burden: Additional costs to respondents are not anticipated beyond costs associated with response burden hours.

(1) OMB No.: 1905-0129

(2) Information Collection Request Title: Form EIA-860M, “Monthly Update to the Annual Electric Generator Report”

(3) Type of Request: Extension, with change, of a currently approved collection.

(4) Purpose: Form EIA-860M collects data on the status of proposed new generators scheduled to begin commercial operation within the forward 12-month period; existing generators scheduled to retire from service within the forward 12-month period; and existing generators that have proposed modifications that are scheduled for completion within one month. The information is needed to ensure a complete and accurate inventory of the nation's generating fleet, for such purposes as reliability and environmental analyses.

(5) Estimated Number of Survey Respondents: During a typical year a total of about 412 entities will file the form for at least one month. Note, however, that in any given month only about 170 entities fall within the reporting threshold (i.e., have a new generator that is within 12 months of entering commercial operation) and are therefore required to file the survey. Most respondents file fewer than 12 forms a year; the average is currently about 5.6 filings per year per respondent.

(6) Annual Estimated Number of Total Responses: The annual estimated number of total responses is 2,307.

(7) Annual Estimated Number of Burden Hours: The annual estimated burden is 692 hours.

(8) Annual Estimated Reporting and Recordkeeping Cost Burden: Additional costs to respondents are not anticipated beyond costs associated with response burden hours.

(1) OMB No.: 1905-0129

(2) Information Collection Request Title: Form EIA-861, “Annual Electric Power Plant Report”

(3) Type of Request: Extension, with changes, of a currently approved collection.

(4) Purpose: Form EIA-861 collects annual information on the retail sale, distribution, transmission and generation of electric energy in the United States, its territories, and Puerto Rico. The data include related activities such as energy efficiency and demand response programs. In combination with the Form EIA-861S short form (see below) and the monthly Form EIA-826, this annual survey provides coverage of retail sales of electric power and related activities

The Form EIA-861 requests a full array of data from approximately 2,200 larger power companies. EIA proposes the following:

• For most schedules that request information by state, add a requirement to report by state and balancing authority combination. This reflects an effort by EIA to align data collection with the actual operation of the power system, which is managed by about 100 balancing authorities. As a consequence of this proposal, in states that have more than one balancing authority, the respondent may have more than one schedule reported per state.

• Schedule 2, Part C, Green Pricing: Remove the green pricing schedule. As discussed above in relation to the Form EIA-826 monthly survey the limited presence of green pricing in the retail power market does not appear to justify the burden of this schedule on respondents.

• Schedule 4, Part A, Sales to Ultimate Customers, Full Service: Add questions about “rate decoupling,” a form of ratemaking intended to keep utilities revenue-neutral in a situation in which sales are dropping due to energy efficiency and demand response programs. These programs have been common for retail sales of natural gas and are now being implemented for electricity sales.

• Schedule 6, Parts A and B, Demand Side Management Programs: Over the past 18 months EIA consulted with government, academic, and other experts on steps to improve the collection of Energy Efficiency data. The primary objective of the changes is to focus on the data respondents are best able to provide and to improve the consistency of responses. The specific changes to Part A, Energy Efficiency Programs, are as follows:

i. Change the collection of Net Energy Savings to Gross Energy Savings (MWh);

ii. Change the collection of Annualized Incremental Effects and Actual Annual Effects to Incremental Annual Savings and Incremental Life Cycle Savings.

iii. Replace Annual Costs with Reporting Year Incremental Costs and Incremental Life Cycle Costs; also reduce the number of cost components collected.

iv. Add the collection of the Weighed Average Life of a portfolio of Energy Efficiency programs and provide an automated spreadsheet to calculate this number based on program data entered into the spreadsheet.

v. Remove questions about verification and reporting on another company's form.

vi. Add question about Web site address to energy efficiency reports.

• For Part B, Demand Response Programs, add the numbers of customers enrolled and reduce the number of cost components collected.

• Schedule 2, Part D, Net Metering: Increase the capacity limit for reporting net metering installations from 2 MWs to unlimited. This change will help identify the amount of net metering capacity by technology type and, combined with other changes to generation capacity data collection, help EIA to identify all the renewable capacity installed.

• Schedule 6, Part C, Dynamic Pricing Programs: Dynamic pricing is a form of ratemaking that exposes retail customers to short-term changes in power prices. These rate structures, particularly in combination with smart meters, are of increasing interest as a integrated part of overall Demand Side Management Programs and as a means to improve the operation of restructured power markets. Consistent with the increased interest in this topic, EIA proposes to enhance the demand response questions, for example by asking respondents to identify how many customers they have signed up in these types of programs and also whether they have customers signed up for any of five major time-based rate programs, i.e. Time-of-Use Pricing, Real Time Pricing, Variable Peak Pricing, Critical Peak Pricing, and Critical Peak Rebate.

• Schedule 6, Part C, Advanced Metering and Customer Communications: Separate AMI into two subgroups—AMI operated as AMR and AMI operated as AMI. In addition, the definitions of advanced metering infrastructure (AMI, or “smart meters”) and automated meter reading technologies have been adjusted to provide better estimates of total AMI meter installations. This statistic is of interest because of federal and state programs intended to encourage the use of smart meters and the possible value of smart meters in energy efficiency and demand response programs. EIA also proposed to add to the data collection the total number of meters (of all types including mechanical ones), number of customers that receive certain types of communication from the service provider, frequency of this communication, and the number of customers participating in direct load control programs.

• Schedule 6, Parts E and Part F, Distribution System Information and Reliability Information: Parts E and F add new questions dealing with distribution system automation and the reliability of electric power distribution systems. This information expands EIA's coverage of power system reliability, which has historically been limited to the transmission grid (see discussion of Form EIA-411, above), to the distribution level at which most customer interruptions actually occur. The initial recommendation to add these questions came from Lawrence Berkeley National Laboratory, which identified the lack of a central repository of distribution system reliability statistics. The need for this data collection is further indicated by requests EIA has received for these data from Congressional and state energy offices. The impact on respondent burden is expected to be minimal because respondents can respond with statistics that are typically computed in the normal course of business. Utilities that do not collect this information do not have to respond.

(5) Estimated Number of Survey Respondents: There are approximately 2,200 respondents.

(6) Annual Estimated Number of Total Responses: The annual estimated number of total responses is 2,200.

(7) Annual Estimated Number of Burden Hours: The annual estimated burden is 24,706 hours.

(8) Annual Estimated Reporting and Recordkeeping Cost Burden: Additional costs to respondents are not anticipated beyond costs associated with response burden hours.

(1) OMB No.: 1905-0129

(2) Information Collection Request Title: Form EIA-861S, “Annual Electric Power Plant Report (Short Form)”

(3) Type of Request: Extension, with changes, of a currently approved collection.

(4) Purpose: Form EIA-861S collects a limited set of information annually from 1,100 small companies involved in the retail sale of electricity. A complete set of annual data is collected from 2,200 larger companies on the Form EIA-861 and monthly data are collected on the Form EIA-826 (see above). EIA proposes changes to the Form EIA-861S to comport with those planned for the EIA-861 long form, specifically:

• For most schedules that request information by state, add a requirement to report by state and balancing authority combination. As noted earlier, this reflects an effort by EIA to align data collection with the actual operation of the power system, which is managed by about 100 balancing authorities. As a consequence of this proposal, in states that have more than one balancing authority, the respondent may have more than one schedule reported per state.

• Schedule 2, Part C, Remove the green pricing schedule. As discussed above, the limited presence of green pricing in the retail power market does not appear to justify the burden of this schedule on respondents.

• Schedule 2, Part D, Net Metering: Add a Yes or No question concerning whether the respondent has a net metering program.

• Schedule 6, Part D, Advanced Metering and Customer Communications: Separate AMI into two subgroups—AMI operated as AMR and AMI operated as AMI. In addition, the definitions of advanced metering infrastructure and automated meter reading technologies have been adjusted to provide better estimates of total AMI meter installations. This statistic is of interest because of federal and state programs intended to encourage the use of smart meters and the possible value of smart meters in energy efficiency and demand response programs.

• Schedule 6, Part C, Time-Based Rate Programs (Dynamic Pricing Programs): Add a single Yes/No question asking if the respondent operates any time-based rate programs.

(5) Estimated Number of Survey Respondents: There are approximately 1,100 respondents.

(6) Annual Estimated Number of Total Responses: The annual estimated number of total responses is 1,100.

(7) Annual Estimated Number of Burden Hours: The annual estimated burden is 2,200 hours.

(8) Annual Estimated Reporting and Recordkeeping Cost Burden: Additional costs to respondents are not anticipated beyond costs associated with response burden hours.

(1) OMB No.: 1905-0129

(2) Information Collection Request Title: Form EIA-923, “Power Plant Operations Report”

(3) Type of Request: Extension, with changes, of a currently approved collection.

(4) Purpose: Form EIA-923 collects information from electric power plants in the United States. Data collected include electric power generation, energy source consumption, end of reporting period fossil fuel stocks, as well as the quality and cost of fossil fuel receipts. EIA proposes to make the following changes:

• Schedule 2, Cost and Quality of Fuel Purchases: Add to the collection of coal quality characteristics two additional elements: coal moisture and chloride content. These factors relate to the propensity of the coal to produce acid gases and assist in assessment of the quality of the various coal ranks.

• Schedule 2, Cost and Quality of Fuel Purchases: Add the collection of the names of the pipeline systems connected to natural gas burning power plants. This information is needed to help reconcile natural gas sales information collected on other surveys with the data collected on the Form EIA-923, and by doing so help ensure that EIA has a complete picture of the disposition of natural gas.

• Schedule 4, Fossil Fuel Stocks at the End of the Reporting Period: EIA collects coal stocks held for power plant use to measure the adequacy of short-term coal supply for power generation. The proposed change will add questions to clarify the relationship between stocks held off-site at coal terminals with the plants the terminals serve.

• Schedule 3, Boiler and Generator Information for Steam-Electric Combustible-Fueled Plants: This change would simplify the form by combining two schedules dealing with generation and fuel consumption (Schedules 3 and 5) into one schedule.

• Schedule 6, Nonutility Annual Source and Disposition of Electricity: add “Energy provided under tolling arrangements” to the Disposition of Electric Energy; and request identification of the nature of “other incoming” and “other out-going” electric energy. These changes are needed to distinguish power delivered under tolling agreements from the more generic category of “other out-going power.” Plants selling power under tolling agreements have increased from about a dozen in 2007 to over 200 in 2012.

• Schedule 7, Annual Revenues from Retail Sales and/or Sales for Resale: This schedule will collect data on retail sales by entities (power plants) that normally sell power at wholesale. These data are needed to complete the disposition of electricity by inclusion of retail sales by nonutility plants (utilities report retail sales on the Form EIA-861, but independent power producers are not required to complete the Form EIA-861).

• Schedules 8, Annual Environmental Information, Parts C, E and F: Reconfigure these schedules to be equipment-oriented, rather than emission type oriented, because installed environmental controls can reduce more than one type of air emission.

(5) Estimated Number of Survey Respondents: There are approximately 6,295 respondents. The monthly form is filed by 2,052 respondents; the annual form is filed by 4,243 respondents; and the supplemental form is filed by 1,625 respondents. (Those same 1,625 respondents also file the monthly form and are included in the 2,052 respondents on the monthly form.)

(6) Annual Estimated Number of Total Responses: The annual estimated number of total responses is 30,492.

(7) Annual Estimated Number of Burden Hours: The annual estimated burden is 69,602 hours.

(8) Annual Estimated Reporting and Recordkeeping Cost Burden: Additional costs to respondents are not anticipated beyond costs associated with response burden hours.

(1) OMB No.: 1905-0129

(2) Information Collection Request Title: Form EIA-930, “Balancing Authority Operations Report”

(3) Type of Request: New data collection.

(4) Purpose: Form EIA-930 is a new survey of hourly electric power operating data from Balancing Authorities in the contiguous United States ³ and from selected electric utilities in Alaska and Hawaii.⁴ The data include:

³ A Balancing Authority is “The responsible entity that integrates resource plans ahead of time, maintains load-interchange-generation balance within a Balancing Authority Area, and supports Interconnection frequency in real time.” (NERC, Glossary of Terms Used in NERC Reliability Standards, December 21, 2012.) In most, but not all cases, a balancing authority is an electric utility company or a Regional Transmission Organization. The electric power grid in the contiguous United States is managed on a moment to moment basis by 98 Balancing Authorities. If the Southwest Power Pool RTO proceeds as planned to consolidate its 17 member Balancing Authorities, the number of Balancing Authorities will drop to 82.

⁴ Alaska and Hawaii do not have integrated electric power grids as in the contiguous United States. Alaska has numerous small regional electric power systems. In the case of Alaska, EIA proposes to collect data from 1) the six interconnected systems in the Railbelt Intertie extending from the Kenai Peninsula north to Fairbanks, including Chugach Electric Association, Anchorage Municipal Light & Power, Matanuska Electric Association, Golden Valley Electric Association, Homer Electric Association, and Seward Electric System; and 2) Alaska Electric Light & Power, which provides power to Juneau. These utilities are believed by EIA to account for over 75 percent of electric power load in Alaska.

In the case of Hawaii, EIA proposes to collect data from the Hawaiian Electric Industries, Inc. operating companies, including Hawaii Electric Co., Hawaii Electric Light Company, Inc. and Maui Electric Company, Ltd. These companies provide service to the islands of Oahu, Hawaii, Maui, Lanai, and Molokai, encompassing about 95% of Hawaiian electric power customers. This approach provides acceptable coverage of Alaska and Hawaii without incurring the costs and burden of collecting complete data for these states.

• Hourly demand,

• Hourly next-day demand forecast,

• Hourly net generation,

• Hourly actual interchange with each interconnected Balancing Authority.

The purpose of this survey is to provide basic operating statistics for the nation's electric power systems on a current basis. While electric utilities individually and as an industry have primary responsibility for system operations, many other entities, such as other industry participants, policymakers, legislators, regulators, emergency and disaster response officials, entrepreneurs, economic analysts, industry researchers, and the public, have a direct interest in electric systems operations and the associated data. There is currently no central or comprehensive source for hourly electric industry operating statistics.

The burden of providing these data is extremely low relative to their value, particularly since the information requested is already collected by or known to the proposed respondents in the course of their normal operations, and a number of proposed respondents are already posting much of it. Based on the information in the respondent postings, EIA would make available a comprehensive set of the current day's system demand data on an hourly basis and the prior day's basic hourly electric system operating data on a daily basis.

Respondents will post hourly demand data at a web address in a standard format within ten minutes of the end of the reported hour. They will also post separately the prior day's hourly demand, demand forecast, net generation, and actual interchange data in a standard format by 7:00 a.m. Eastern Time the next day. The posting web address must be accessible by EIA and respondents may, at their discretion, provide the public with access to this address. In either case, EIA will treat this data as public. EIA requests comment on alternatives or supplements to the web posting requirement and the format for the posted data.

The same-day, soon after the reporting hour posting of demand provides a basic measure of the current status of electric systems and the United States electric industry as a whole. Comparing actual system demand with the day-ahead forecast provides a measure of the accuracy of forecasting used to commit resources.

Data regarding the time-varying nature of electricity supply and demand is essential to addressing smart grid related issues such as integrating wind and solar generation, better coordination of natural gas and electric short-term operations, and expanding the use of demand response, storage, and electric vehicles in electric system operations.

Due to the lack of sufficient cost-effective electricity storage, electricity must be produced at the moment it is used. This presents the electric industry with significant challenges in delivering its primary product: electricity on-demand. The industry meets the challenge by always having more capacity available than needed and relying on certain entities to ensure the moment-to-moment balancing of supply and demand. Electric utilities that perform the balancing function are called Balancing Authorities. Due to the interconnected nature of power grids, collecting operating information from only a subset of the entities involved significantly undermines the usefulness of the survey.

Balancing Authority operators monitor their systems continuously and may act whenever necessary to maintain reliability. However, Balancing Authority operating procedures, such as scheduling supply, demand and interchange (the flow of electricity between Balancing Authorities), and the mandatory reliability standards that apply to them, use the hour as the primary operating period. Consequently, the proposed survey uses the operating hour as its data measurement interval.

The proposed survey is specifically designed to minimize burden on electric system operators. The surveyed data is typically produced in the normal course of business by Balancing Authority energy management systems. Hourly demand and demand forecast data is currently posted on public Web sites in the proposed posting timeframes by a number of Balancing Authorities, including most Regional Transmission Organizations. These balancing authorities supply over half of end-use electricity consumption in the United States. A few Balancing Authorities post publicly more detailed operating data.

Under Federal Energy Regulatory Commission (FERC) Order 890, Transmitting Utilities are required to post on their Open Access Same-time Information System (OASIS) Web sites prior-day's peak hour demand and the associated demand forecast value. Most Balancing Authorities are also Transmitting Utilities. Therefore, the Balancing Authorities subject to Order 890 already have in place the means for posting some of the data requested by the proposed survey.

The proposed survey does not duplicate existing data collections. EIA currently collects monthly and annual production from electric generators and demand from load-serving entities. The data are published about 52 days after the end of a month for major generators and systems, and about eight months after the end of the year for smaller entities.

FERC currently collects demand, net generation and actual interchange from Balancing Authorities on an annual survey, the FERC Form 714. The reporting is on a monthly and annual basis. In addition, Balancing Authorities report actual interchange received and delivered with each directly interconnected Balancing Authority on an annual basis. Monthly or annual values for demand, net generation and actual interchange do not provide relevant information about the time-varying nature of these operating values as would be provided by the proposed survey.

The FERC Form 714 also collects historical hourly demand by Planning Area. Most Balancing Authorities are also Planning Areas, but not all. The hourly demand data is collected annually and posted with the rest of the form data in August of the year following the reporting year. The FERC Form 714 data is both less complete and far less timely than the data collected by the proposed survey, and does not offer current information on the status of the nation's electric system that the proposed survey would provide.

Certain real-time system information is made available by NERC to DOE's Office of Electricity Delivery and Energy Reliability. However, this data is not made available to the public and under the agency's agreement with NERC the data is not recorded or otherwise retained by DOE.

EIA does not believe that this information is business sensitive. As noted above, Regional Transmission Organizations that serve as Balancing Authorities and some other Balancing Authorities currently post publicly hourly operating data. A potential commercial issue is whether these data will reveal whether a specific utility is short on available generating capacity and may be willing to pay premium prices for electricity to meet load. The proposed survey data, including same-day posting of hourly demand, does not provide information about the availability of generating units. The next-day posting of operating data is after the relevant short-term wholesale power markets have closed.

Multiple power plants supply most Balancing Authorities. Therefore, the generation data reported under the proposed survey will not reveal which specific generators are operating or a history of their operating trends. However, some individual generators and small utilities with little or no generation have chosen for commercial reasons to operate as Balancing Authorities. Most Balancing Authorities of this type are embedded within another Balancing Authority and have a single interconnection with that Balancing Authority.

While the proposed survey data does not provide information about the current availability of a single-generator Balancing Authority power plant, it does provide a history of the plant's hourly output. There is little value in collecting system level operating data from these Balancing Authorities. However, their information is needed to provide comprehensive operating statistics. EIA requests comments on how to exempt these Balancing Authorities or limit their reporting while maintaining the comprehensiveness of the survey.

(5) Estimated Number of Survey Respondents: The annual estimated number of respondents is 107. This includes 98 Balancing Authorities in the contiguous United States, 6 electric utilities in Alaska, and 3 electric utilities in Hawaii.

(6) Annual Estimated Number of Total Responses: The annual estimated number of total responses is 39,055.

(7) Annual Estimated Number of Burden Hours: The annual estimated burden is 7,534 hours for the first year (to include start-up activities) and 3,254 hours each subsequent year.

(8) Annual Estimated Reporting and Recordkeeping Cost Burden: Additional costs to respondents are not anticipated beyond costs associated with response burden.

Statutory Authority: Section 13(b) of the Federal Energy Administration Act of 1974, Pub. L. 93-275, codified at 15 U.S.C. 772(b).

Issued in Washington, DC, on February 27, 2013.
Renee Miller,
Acting Director, Office of Survey Development and Statistical Integration, U.S. Energy Information Administration.

[FR Doc. 2013-05152 Filed 3-5-13; 8:45 am]

BILLING CODE 6450-01-P